DEPARTMENT OF LABOR

Employment and Training Administration

[TA-W-65,194]

RR Donnelley and Sons, Inc.: Long Prairie, MN; Notice of Termination of Investigation

Pursuant to Section 221 of the Trade Act of 1974, as amended, an investigation was initiated on February 10, 2009, in response to a worker petition filed by the State of Minnesota on behalf of workers at RR Donnelley and Sons, Inc., Long Prairie, Minnesota.

The petitioner has requested that the petition be withdrawn. Consequently, the investigation has been terminated.

Signed at Washington, DC, this 20th day of March 2009.
Elliott S. Kushner,
Certifying Officer, Division of Trade Adjustment Assistance.

[FR Doc. E9-7750 Filed 4-6-09; 8:45 am]

BILLING CODE 4510-FN-P